DEPARTMENT OF HEALTH AND HUMAN SERVICES

Substance Abuse and Mental Health Services Administration

Agency Information Collection Activities: Proposed Collection; Comment Request

In compliance with section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer on (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Multiplier Surveys—NEW

While all SAMHSA programming is intended to support the SAMHSA vision of a life in the community for everyone, and its strategic goals of accountability, capacity, and effectiveness, there has been little systematic investigation of the long-range impact of different categories of discretionary programs. The Multiplier Surveys will inform SAMHSA policy and budget development by determining which types of investments are most appropriate for achieving different policy objectives, including sustainability of the program or its intended outcomes after Federal funding ends. It also seeks to determine which program types or factors are best at achieving certain objectives after the conclusion of Federal funding, such as capacity improvement, system change, sustainability and influence on other programs. Findings will be used to make recommendations to SAMHSA management to better inform policy and budget development and to determine which types of investments are most appropriate for achieving different policy objectives.

To achieve the goals of the Multiplier Surveys four programs have been chosen from each of SAMHSA's three Centers. Four Project Directors from each of the 12 programs (48 respondents in all), whose Federal funding ended no later than September 30, 2008 will be interviewed by telephone to determine how the project was sustained after Federal funding ended and what factors contributed to its sustainability.

In addition, all grantees from each of the 12 selected programs meeting inclusion criteria will be invited via e-mail to complete a short on-line survey about their project and how/if it was sustained after Federal funding ended. A 20 percent response rate or about 100 respondents to the on-line survey is expected.

The estimated response burden is as follows:

Information source | Number of respondents | Responses per respondent | Total responses | Hours per response | Total hours
Project Director | 48 | 1 | 48 | 1.25 | 60
Web-based Survey | 100 | 1 | 100 | .75 | 75
Total | 148 |  | 148 |  | 135

Send comments to Summer King, SAMHSA Reports Clearance Officer, Room 7-1044, One Choke Cherry Road, Rockville, MD 20857 and e-mail her a copy at summer.king@samhsa.hhs.gov. Written comments should be received within 60 days of this notice.

Dated: March 23, 2010.
Elaine Parry,
Director, Office of Program Services.

[FR Doc. 2010-7432 Filed 4-1-10; 8:45 am]

BILLING CODE 4162-20-P